NUCLEAR REGULATORY COMMISSION

[NRC-2009-0418]

Notice of Issuance of Regulatory Guide

AGENCY: Nuclear Regulatory Commission.

ACTION: Notice of Issuance and Availability of Regulatory Guide 6.9, Revision 1, “Establishing Quality Assurance Programs for the Manufacture and Distribution of Sealed Sources and Devices Containing Byproduct Material.”

FOR FURTHER INFORMATION CONTACT: Jack W. Foster, Licensing Branch, Licensing and Inspection Support Directorate, Division of Materials Safety and State Agreement, Office of Federal and State Materials and Environmental Management Programs, U.S. Nuclear Regulatory Commission, Washington, DC 20555-0001, telephone (301) 415-6250 or e-mail Jack.Foster@nrc.gov.

SUPPLEMENTARY INFORMATION:

I. Introduction

The U.S. Nuclear Regulatory Commission (NRC) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 1 of Regulatory Guide 6.9, “Establishing Quality Assurance Programs for the Manufacture and Distribution of Sealed Sources and Devices Containing Byproduct Material,” was issued with a temporary identification as Draft Regulatory Guide, DG-6007. This regulatory guide directs the reader to the type of quality assurance (QA) and quality control (QC) program acceptable to the staff of the NRC during the review of an application to manufacture or distribute sealed sources and devices containing byproduct materials.

II. Further Information

In September 2009, DG-6007 was published with a public comment period of 60 days from the issuance of the guide. No comments were received and the public comment period closed on November 21, 2009. Electronic copies of Regulatory Guide 6.9, Revision 1 are available through the NRC's public Web site under “Regulatory Guides” at http://www.nrc.gov/reading-rm/doc-collections/.

In addition, regulatory guides are available for inspection at the NRC's Public Document Room (PDR) located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and NRC approval is not required to reproduce them.

Dated at Rockville, Maryland, this 12th day of April 2010.
For the Nuclear Regulatory Commission.
Andrea D. Valentin,
Chief, Regulatory Guide Development Branch, Division of Engineering, Office of Nuclear Regulatory Research.

[FR Doc. 2010-8922 Filed 4-16-10; 8:45 am]

BILLING CODE 7590-01-P